DEPARTMENT OF COMMERCE

International Trade Administration

[A-201-853, C-201-854]

Standard Steel Welded Wire Mesh From Mexico: Preliminary Affirmative Determination of Circumvention of the Antidumping Duty and Countervailing Duty Orders

AGENCY: Enforcement and Compliance, International Trade Administration, Department of Commerce.

SUMMARY: The U.S. Department of Commerce (Commerce) preliminarily determines that imports of certain low carbon steel (LCS) wire that are produced in Mexico and assembled or completed into standard steel welded wire mesh (welded wire mesh) in the United States are circumventing the antidumping duty (AD) and countervailing duty (CVD) orders on welded wire mesh from Mexico. As a result, all imports of certain LCS wire from Mexico imported by Deacero S.A.P.I. de C.V. (Deacero) will be subject to suspension of liquidation on or after April 2, 2024, and all other imports of certain LCS wire from Mexico will be subject to suspension of liquidation on or after the date of publication of this notice in the Federal Register. Commerce is also imposing a certification requirement. We invite interested parties to comment on this preliminary determination.

DATES: Applicable September 16, 2025.

FOR FURTHER INFORMATION CONTACT: Kayden Jenson, Office II, Enforcement and Compliance, International Trade Administration, U.S. Department of Commerce, 1401 Constitution Avenue NW, Washington, DC 20230; telephone: (202) 482-0967.

SUPPLEMENTARY INFORMATION:

Background

On August 9, 2021, and April 12, 2021, respectively, Commerce published in the Federal Register the AD and CVD orders on U.S. imports of welded wire mesh from Mexico.¹ On January 14, 2025, pursuant to section 781(a) of the Tariff Act of 1930, as amended (the Act), and 19 CFR 351.226(d)(1), Commerce initiated a country-wide circumvention inquiry to determine whether imports of LCS wire from Mexico that are assembled or completed into welded wire mesh in the United States are circumventing the Orders and, accordingly, should be covered by the scope of the Orders.² On February 21, 2025, Commerce selected Impulsora del Alambre S.A. de C.V. (Impulsora) and Deacero S.A.P.I. de CV (Deacero), Mexican producers of LCS wire, as the mandatory respondents in this circumvention inquiry.³

¹ See Standard Steel Welded Wire Mesh from Mexico: Antidumping Duty Order, 86 FR 43525 (August 9, 2021) (AD Order); see also Standard Steel Welded Wire Mesh from Mexico: Countervailing Duty Order, 86 FR 18940 (April 12, 2021) (CVD Order) (collectively, Orders).

² See Standard Steel Welded Wire Mesh from Mexico: Initiation of Circumvention Inquiry on the Antidumping and Countervailing Duty Orders, 90 FR 3173 (January 14, 2025) (Initiation Notice).

³ See Memorandum, “Circumvention Inquiry of the Antidumping and Countervailing Duty Orders on Standard Steel Welded Wire Mesh from Mexico: Respondent Selection,” dated February 21, 2025.

For a complete description of the events that followed the initiation of this circumvention inquiry, see the Preliminary Decision Memorandum.⁴ The topics included in the Preliminary Decision Memorandum are identified in Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://access.trade.gov/public/FRNoticesListLayout.aspx.

⁴ See Memorandum, “Preliminary Decision Memorandum for the Circumvention Inquiry of the Antidumping and Countervailing Duty Orders on Standard Steel Welded Wire Mesh from Mexico,” dated concurrently with, and hereby adopted by, this notice (Preliminary Decision Memorandum).

Scope of the Orders

The merchandise covered by these Orders is welded wire mesh. For a full description of the scope of the Orders, see the Preliminary Decision Memorandum.

Merchandise Subject to the Circumvention Inquiry

This circumvention inquiry covers certain LCS wire produced in Mexico and further processed and completed in the United States into welded wire mesh from Mexico.

Methodology

Commerce made this preliminary circumvention determination in accordance with section 781(a) of the Act and 19 CFR 351.226. For a full description of the methodology underlying the preliminary determination, see the Preliminary Decision Memorandum.

Preliminary Circumvention Determination

We preliminarily determine that welded wire mesh, assembled or completed in the United States using Mexican-origin LCS wire produced by Deacero, is circumventing the Orders. We also preliminarily determine that Mexican-origin LCS wire produced by Impulsora is not assembled or completed into welded wire mesh in the United States, and therefore, is not circumventing the Orders.

As detailed in the Preliminary Decision Memorandum, we also preliminarily determine that U.S. imports of inquiry merchandise exported from Mexico are circumventing the Orders on a country-wide basis. As a result, we preliminarily determine that this merchandise is covered by the Orders.

See the “Suspension of Liquidation and Cash Deposits” section below for details regarding suspension of liquidation and cash deposit requirements. See the “Certification” and “Certification Requirements” sections below for details regarding the use of certifications.

Suspension of Liquidation and Cash Deposits

Based on the preliminary affirmative country-wide determination of circumvention, in accordance with 19 CFR 351.226(l)(2), we will direct U.S. Customs and Border Protection (CBP) to suspend liquidation and require a cash deposit of estimated duties on unliquidated entries of LCS wire that are produced in Mexico and assembled or completed into welded wire mesh in the United States, that were entered, or withdrawn from warehouse, for consumption by Deacero or its affiliates on or after April 22, 2024, the date of publication of the preliminary affirmative circumvention determination in the circumvention inquiry of pre-stressed concrete steel wire strand from Mexico,⁵ pursuant to 19 CFR 351.226(l)(3)(iii)(A). For all other companies, we will direct CBP to suspend liquidation and require a cash deposit of estimated duties on unliquidated entries of LCS wire that are produced in Mexico and assembled or completed into welded wire mesh in the United States, that were entered, or withdrawn from warehouse, for consumption on or after the date of publication of this notice in the Federal Register.⁶

⁵ See Prestressed Concrete Steel Wire Strand from Mexico: Preliminary Affirmative Determination of Circumvention of the Antidumping Duty Order, 89 FR 22668 (April 2, 2024), unchanged in Prestressed Concrete Steel Wire Strand from Mexico: Final Affirmative Determination of Circumvention of the Antidumping Duty Order, 89 FR 79252 (September 27, 2024).

⁶ See Initiation Notice, 90 FR at 3173.

Entries for which the importer has met the certification and documentation requirements described below and in Appendix II of this notice will not be subject to suspension of liquidation, or the cash deposit requirements described above. In accordance with 19 CFR 351.228(b), where the certification and documentation requirements are not met for an entry, Commerce intends to instruct CBP to suspend the entry and collect cash deposits at the rates applicable to the AD and CVD orders on welded wire mesh from Mexico, and may instruct CBP to assess antidumping or countervailing duties at the applicable rate.

For producers and/or exporters of the LCS wire that have a company-specific cash deposit rate under the Orders, the cash deposit rate will be the company-specific rate. Otherwise, Commerce will instruct CBP to require cash deposits equal to the AD all-others rate (i.e., 22.01 percent) ⁷ and the CVD all-others rate (i.e., 1.03 percent).⁸

⁷ See AD Order, 86 FR at 43526.

⁸ See CVD Order, 86 FR at 18940.

These suspension of liquidation requirements will remain in effect until further notice.

Certifications

In order to administer the preliminary affirmative country-wide and company-specific determinations of circumvention, Commerce has established importer certifications. These certifications will permit importers to establish that specific entries of LCS wire from Mexico are not subject to suspension of liquidation or the collection of cash deposits pursuant to this preliminary country-wide affirmative determination of circumvention because the merchandise will not be further processed into welded wire mesh covered by the Orders (see Appendix II to this notice).

Importers that claim that an entry of LCS wire is not subject to suspension of liquidation or the collection of cash deposits based on the end-use of such merchandise must complete the applicable certification and meet the certification requirements described below, as well as the requirements identified in the certification.

Certification Requirements

Importers are required to complete and maintain the applicable importer certification and retain all supporting documentation for the certification. With the exception of the entries described below, the importer certification must be completed, signed, and dated by the time the entry summary is filed for the relevant entry. Shipments entered, or withdrawn from warehouse, for consumption by Deacero on or after April 2, 2024 (i.e., the date of publication of the preliminary affirmative determination of circumvention by Deacero for pre-stressed concrete steel wire strand from Mexico) must comply with the importer certification requirements described below. For all other shipments, the importer certification requirements are effective for all shipments entered, or withdrawn from warehouse, for consumption on or after the date of publication of this notice in the Federal Register. While Commerce will normally begin suspension of liquidation on or after the date of the publication of the notice of initiation of the circumvention inquiry pursuant to 19 CFR 351.226(l)(2)(ii), in this instance, given that Commerce's affirmative determination rests on the behavior of one party (Deacero) and that the action of the other party subject to individual examination under this inquiry (Impulsora) demonstrates no attempt at circumvention, Commerce is beginning the suspension of liquidation and the certification requirement for all other parties at a later date (i.e., the publication of this notice in the Federal Register). In this regard, Commerce notes that Deacero and Impulsora together account for nearly all shipments of low-carbon steel wire to the United States from Mexico (more than 95 percent).⁹

⁹ Pursuant to 19 CFR 351.226(m), Commerce has the discretion to consider the “appropriate remedy” for an affirmative determination in circumvention inquiry, including for a country-wide determination.

With the exception of entries described below, the importer, or the importer's agent, must submit the importer's certification, the steel mill certificate for the imported product, and the commercial invoice for the imported product to CBP at the time of entry summary by uploading these documents into the document imaging system (DIS) in the Automated Commercial Environment (ACE). Consistent with CBP's procedures, importers shall identify certified entries by using importers' additional declaration (record 54) AD/CVD Certification Designation (type code 06) when filing an entry summary.¹⁰ Where the importer uses a broker to facilitate the entry process, it should obtain the entry summary number from the broker. Agents of the importer, such as brokers, however, are not permitted to certify on behalf of the importer.

¹⁰ See CBP Cargo Systems Messaging Service Bulletin 59384253, “CATAIR Entry Summary Create/Update and Error Dictionary Have Been Updated—AD/CVD CERT,” dated February 12, 2024; see also Announcing an Importer's Additional Declaration in the Automated Commercial Environment Specific to Antidumping/Countervailing Duty Certifications, 89 FR 7372 (February 2, 2024).

Additionally, the claims made in the certifications and any supporting documentation are subject to verification by Commerce and/or CBP. Importers are required to maintain the certifications and supporting documentation until the later of: (1) the date that is five years after the latest entry date of the entries covered by the certification; or (2) the date that is three years after the conclusion of any litigation in United States courts regarding such entries.

For all shipments of LCS wire from Mexico that were entered, or withdrawn from warehouse, for consumption by Deacero during the period April 2, 2024 (i.e., the date of publication of the preliminary affirmative determination of circumvention by Deacero for pre-stressed concrete steel wire strand from Mexico), through September 26, 2025, where the entry has not been liquidated (and entries for which liquidation has not become final), and for consumption by all other companies during the period beginning on the date of publication of this notice in the Federal Register, through September 26, 2025, where the entry has not been liquidated (and entries for which liquidation has not become final), the relevant certification should be completed and signed as soon as practicable, but not later than October 27, 2025. For such entries, importers have the option to complete a blanket certification covering multiple entries, individual certifications for each entry, or a combination thereof. The importer certification, commercial invoice, and steel mill certificate should be uploaded to the DIS in ACE as soon as practicable, but not later than October 27, 2025. For such entries, importers have the option to complete a blanket certification covering multiple entries, individual certifications for each entry, or a combination thereof.

For unliquidated entries (and entries for which liquidation has not become final) of LCS wire that were declared as non-AD/CVD type entries (e.g., type 01) and entered, or withdrawn from warehouse, for consumption in the United States during the period beginning on the date of publication of this notice in the Federal Register, through September 26, 2025, for which none of the above certifications may be made, importers must file a Post Summary Correction with CBP, in accordance with CBP's regulations, regarding conversion of such entries from non-AD/CVD type entries to AD/CVD type entries (e.g., type 01 to type 03) as soon as practicable, but not later than September 26, 2025. The importer should pay cash deposits on those entries consistent with the regulations governing post summary corrections that require payment of additional duties.

If it is determined that an importer has not met the certification and/or related documentation requirements for certain entries, Commerce intends to instruct CBP to suspend, pursuant to this preliminary country-wide affirmative determination of circumvention and the Orders,¹¹ all unliquidated entries for which these requirements were not met and to require the importer to post applicable AD/CVD cash deposits equal to the rates noted above.

¹¹ See Orders.

Interested parties may comment in their case briefs on these certification requirements, and on the certification language contained in Appendix II to this notice.

Verification

As provided in 19 CFR 351.307, Commerce may verify relevant factual information prior to making a final determination. At this time, Commerce does not intend to conduct a verification with respect to this circumvention inquiry.

Public Comment

Case briefs or other written comments should be submitted to the Assistant Secretary for Enforcement and Compliance no later than 14 days after the date of publication of this notice.¹² Rebuttal briefs, limited to issues raised in case briefs, may be submitted no later than five days after the deadline for case briefs.¹³ Pursuant to 19 CFR 351.309(c)(2) and (d)(2), parties who submit case briefs or rebuttal briefs in these circumvention inquiries must submit: (1) a statement of the issue; and (2) a table of authorities. Case and rebuttal briefs should be filed using ACCESS.

¹² See 19 CFR 351.226(f)(4).

¹³ See 19 CFR 351.309(d); see also Administrative Protective Order, Service, and Other Procedures in Antidumping and Countervailing Duty Proceedings, 88 FR 67069 (September 29, 2023) (APO and Service Final Rule).

As provided in 19 CFR 351.309(c)(2) and (d)(2), in prior proceedings we have encouraged interested parties to provide an executive summary of their brief that should be limited to five pages total, including footnotes. In this circumvention inquiry, we instead request that interested parties provide at the beginning of their briefs a public, executive summary for each issue raised in their briefs.¹⁴ Further, we request that interested parties limit their executive summary of each issue to no more than 450 words, not including citations. We intend to use the executive summaries as the basis of the comment summaries included in the issues and decision memorandum that will accompany the final determination in this circumvention inquiry. We request that interested parties include footnotes for relevant citations in the executive summary of each issue. Note that Commerce has amended certain of its requirements pertaining to the service of documents in 19 CFR 351.303(f).¹⁵

¹⁴ We use the term “issue” here to describe an argument that Commerce would normally address in a comment of the Issues and Decision Memorandum.

¹⁵ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice in the Federal Register. Requests should contain: (1) the requesting party's name, address, and telephone number; (2) the number of individuals from the requesting party that will attend the hearing and whether any of those individuals is a foreign national; and (3) a list of the issues that the party intends to discuss at the hearing. If a request for a hearing is made, Commerce intends to hold the hearing at a time and date to be determined. Parties should confirm by telephone the date, time, and location of the hearing two days before the scheduled date of the hearing.

U.S. International Trade Commission (ITC) Notification

Commerce, consistent with section 781(e) of the Act, will notify the ITC of this preliminary circumvention determination to include the merchandise subject to this circumvention inquiry within the Orders. Pursuant to section 781(e) of the Act, the ITC may request consultations concerning Commerce's proposed inclusion of the inquiry merchandise. If, after consultations, the ITC believes that a significant injury issue is presented by the proposed inclusion, it will have 60 days from the date of notification by Commerce to provide written advice.

Notification to Interested Parties

This determination is issued and published in accordance with section 781(a) of the Act and 19 CFR 351.226(g)(1).

Dated: September 11, 2025.
Christopher Abbott,
Deputy Assistant Secretary for Policy and Negotiations, performing the non-exclusive functions and duties of the Assistant Secretary for Enforcement and Compliance.

Appendix I

Topics Discussed in the Preliminary Decision Memorandum

I. Summary

II. Background

III. Scope of the Orders

IV. Merchandise Subject to the Circumvention Inquiry

V. Period of Inquiry

VI. Statutory and Regulatory Framework

VII. Statutory Analysis

VIII. Summary of Statutory Analysis

IX. Country-Wide Affirmation Determination of Circumvention and Certification Requirements

X. Recommendation

Appendix II

Importer Certification

If importing round wire that is iron or nonalloy steel, smooth or deformed, not plated, galvanized or coated, whether or not polished, containing by weight less than 0.25 percent of carbon, with a diameter of 1.5mm or more, not heat-treated, with a tensile strength equal to or greater than 70,000psi (49kg/mm2) please complete the following:

I hereby certify that:

A. My name is {IMPORTING COMPANY OFFICIAL'S NAME} and I am an official of {NAME OF IMPORTING COMPANY}, located at {ADDRESS OF IMPORTING COMPANY}.

B. I have direct personal knowledge of the facts regarding the importation into the Customs territory of the United States of subject low-carbon steel (LCS) wire produced in Mexico that entered under the entry summary number(s), identified below, and which is covered by this certification. “Direct personal knowledge” refers to the facts the certifying party is expected to have in its own records. For example, the importer should have direct personal knowledge of the exporter's and/or seller's identity and location.

C. If the importer is acting on behalf of the first U.S. customer, include the following sentence as paragraph C of this certification:

The imported subject-LCS wire covered by this certification was imported by {NAME OF IMPORTING COMPANY} on behalf of {NAME OF U.S. CUSTOMER}, located at {ADDRESS OF U.S. CUSTOMER}.

If the importer is not acting on behalf of the first U.S. customer, include the following sentence as paragraph C of this certification:

{NAME OF IMPORTING COMPANY} is not acting on behalf of the first U.S. customer.

D. The imported LCS wire covered by this certification was shipped to {NAME OF PARTY IN THE UNITED STATES TO WHOM THE MERCHANDISE WAS FIRST SHIPPED}, located at {U.S. ADDRESS TO WHICH MERCHANDISE WAS SHIPPED}.

E. Select the appropriate statement below:

a. I have personal knowledge of the facts regarding the end-use of the imported products covered by this certification because my company is the end-user of the imported product covered by this certification and I certify that the imported subject-LCS wire will not be used to produce standard steel welded wire mesh . “Personal knowledge” includes facts obtained from another party, (e.g., correspondence received by the importer from the end-user of the imported products regarding the end-use of the imported subject-LCS wire.

b. I have personal knowledge of the facts regarding the end-use of the imported product because while my company is not the end-user of the imported product covered by this certification, I certify that I have contacted the customer or end-user of the imported product and confirmed that it will not use this product to produce standard steel welded wire mesh. The customer or end-user of the imported product is {COMPANY NAME} located at {ADDRESS}. “Personal knowledge” includes facts obtained from another party (e.g., correspondence received by the importer from the end-user of the product).

F. The imported subject-LCS wire covered by this certification will not be further processed into standard steel welded wire mesh (welded wire mesh) in the United States. (NOTE: For certifications related to entries produced and/or exported by Deacero S.A.P.I. de CV that were made between April 2, 2024, through September 26, 2025, the importer should replace “will not be further processed” with “were not further processed” in the certification, as necessary). For certifications related to entries produced and/or exported by any company other than Deacero S.A.P.I. de CV between the date of publication of this notice in the Federal Register, through September 26, 2025, the importer should replace “will not be further processed” with “were not further processed” in the certification, as necessary).

G. This certification applies to the following entries (repeat this block as many times as necessary):

Entry Summary #:

Entry Summary Line Item #:

Foreign Seller: Foreign Seller's Address:

Foreign Seller's Invoice #:

Foreign Seller's Invoice Line Item #:

Producer:

Producer's Address:

H. I understand that {NAME OF IMPORTING COMPANY} is required to maintain a copy of this certification and sufficient documentation supporting this certification (i.e., documents maintained in the normal course of business, or documents obtained by the certifying party, for example, mill certificates, product specification sheets, invoices, etc.) until the later of: (1) the date that is five years after the latest entry date of the entries covered by the certification; or (2) the date that is three years after the conclusion of any litigation in United States courts regarding such entries.

I. I understand that {IMPORTING COMPANY}is required to submit a copy of the importer certifications, the commercial invoice, and the steel mill certificate at the time of entry summary by uploading these documents into the Document Imaging System in the Automated Commercial Environment, and to provide U.S. Customs and Border Protection (CBP) and/or the U.S. Department of Commerce (Commerce) with the importer certification, the commercial invoice, the steel mill certificate, and any supporting documentation provided to the importer by the exporter or the importer's customer, upon request of either agency. Consistent with CBP's procedures, importers shall identify certified entries by using importers' additional declaration (record 54) AD/CVD Certification Designation (type code 06) when filing entry summary.

J. I understand that the claims made herein, and the substantiating documentation, are subject to verification by CBP and/or Commerce.

K. I understand that failure to maintain the required certifications and supporting documentation, or failure to substantiate the claims made herein, or not allowing CBP and/or Commerce to verify the claims made herein, may result in a de facto determination that all entries to which this certification applies are entries of merchandise that is covered by the scope of the antidumping duty order and countervailing duty order on standard steel welded wire mesh from Mexico. I understand that such a finding will result in:

(i) suspension of liquidation of all unliquidated entries (and entries for which liquidation has not become final) for which these requirements were not met;

(ii) the importer being required to post the antidumping duty cash deposits determined by Commerce; and

(iii) the importer no longer being allowed to participate in the certification process.

L. I understand that agents of the importer, such as brokers, are not permitted to make this certification. Where a broker or other party was used to facilitate the entry process, {NAME OF IMPORTING COMPANY} obtained the entry summary number and date of entry summary from that party.

M. This certification was completed and signed on, or prior to, the date of the entry summary if the entry date is after September 26, 2025. If the entry date is on or before September 26, 2025, this certification was completed and signed by no later than October 27, 2025.

N. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

[FR Doc. 2025-17905 Filed 9-15-25; 8:45 am]

BILLING CODE 3510-DS-P